Title 3—

The President

Proclamation 9861 of April 8, 2019

National Former Prisoner of War Recognition Day, 2019

By the President of the United States of America

A Proclamation

On National Former Prisoner of War Recognition Day, we honor the Americans captured and imprisoned by foreign powers while carrying out their duties to defend this great Nation. Throughout our history, hundreds of thousands of American service members have been held as prisoners of war (POWs), enduring harsh treatment, unforgiving conditions, and the anguish of being separated from their families. These brave Americans are true patriots, and their inspiring legacy of selfless courage is a testament to their fierce spirit, unshakeable loyalty, and enduring resilience.

The life of World War II hero Lieutenant Louis Zamperini is a shining example of the extraordinary devotion that POWs maintain for their brothers in arms, to our country, and to the cause of freedom. After surviving an airplane crash and 47 terrifying days adrift in the Pacific Ocean, through which he witnessed the deaths of 9 of his fellow crewmembers, Lieutenant Zamperini was captured by the Japanese and placed in a prison camp. Even though he was imprisoned and subjected to daily torture for 2 painstaking years, Lieutenant Zamperini never let his oppressors destroy his identity or allegiance to America. As much as they tried, he could not be broken. Indeed, after he regained his freedom, he inspired the world with his authentic and powerful message of faith and forgiveness, shaking the hands of his ruthless camp guards while visiting them in a Japanese prison.

As a Nation, we must never forget or take for granted the traumatic ordeals of our former POWs. With honor and valor, they served to keep our country safe, and they stayed the course—despite conditions that were often harsh and agonizing.

We must also remember that freedom from captivity does not guarantee a smooth transition back into civilian life. For example, upon returning home, Lieutenant Zamperini first struggled deeply with the aftereffects of his POW experience. He was eventually able to find peace, however, through the care of his family, the support of community, and his faith. Over time, he triumphed over his suffering and became a permanent example of forgiveness and hope.

The Nation has a solemn duty to ensure that all former POWs are able to flourish upon returning home. We are grateful for the many Americans—including many former POWs—who have devoted their time, talent, and resources to fulfilling that obligation.

Today, and every day, we renew our strong and abiding commitment to America's former POWs and honor the tremendous debt of gratitude we owe to them for their courageous service and incredible sacrifices. We also remember all those POWs who died while in captivity, selflessly giving their very lives for the sacred cause of liberty.

NOW, THEREFORE, I, DONALD J. TRUMP, President of the United States of America, by virtue of the authority vested in me by the Constitution and the laws of the United States, do hereby proclaim April 9, 2019, as National Former Prisoner of War Recognition Day. I call upon Americans to observe this day by honoring the service and sacrifice of all our former prisoners of war and to express our Nation's eternal gratitude for their sacrifice. I also call upon Federal, State, and local government officials and organizations to observe this day with appropriate ceremonies and activities.

IN WITNESS WHEREOF, I have hereunto set my hand this eighth day of April, in the year of our Lord two thousand nineteen, and of the Independence of the United States of America the two hundred and forty-third.

[FR Doc. 2019-07525

4-11-19; 11:15 am]

Billing code 3295-F9-P